DEPARTMENT OF HOMELAND SECURITY

Coast Guard

[USCG-2006-25078]

National Maritime Security Advisory Committee

AGENCY: Coast Guard, DHS.

ACTION: Notice of meeting.

SUMMARY: The National Maritime Security Advisory Committee (NMSAC) will hold a meeting to discuss various issues relating to national maritime security. This notice announces the date, time, and location for the meeting of the NMSAC.

DATES: NMSAC will meet on Tuesday, July 25, 2006, from 9 a.m. to 3 p.m. The meeting may close early if all business is finished. Written material and requests to make oral presentations should reach the Coast Guard on or before July 14, 2006. Any material requested to be distributed to each member of the Committee should reach the Coast Guard on or before July 14, 2006.

ADDRESSES: NMSAC will meet at U.S. Coast Guard Headquarters, Room 4202, 2100 Second St., SW., Washington, DC 20593. Send written material and requests to make oral presentations to Mr. John Bastek, Commandant (G-PCP-1), Executive Secretary, NMSAC, U.S. Coast Guard Headquarters, 2100 Second St., SW., Washington, DC 20593-0001. This notice is available on the Internet at http://dms.dot.gov.

FOR FURTHER INFORMATION CONTACT: Mr. John Bastek, Executive Secretary, telephone 202-267-2722, fax 202-267-4130.

SUPLEMENTARY INFORMATION: Notice of the meeting is given pursuant to the Federal Advisory Committee Act, 5 U.S.C. App. 2 (Pub. L. 92-463, 86 Stat. 770 as amended).

Agenda of Meeting

The agenda includes the following:

(1) Welcome and introduction of new Designated Federal Official (DFO) and Security Officer;

(2) Designation of new Chair/Vice Chair;

(3) Transportation Workers Identification Card (TWIC) regulations update;

(4) Approval of the NMSAC Subject Matter Expert (SME) list;

(5) Establishment of Maritime Transportation Government Coordinating Council (MGCC) and the Maritime Transportation Sector Coordinating Council (MSCC); and

(6) Presentations on current maritime security initiatives.

Procedural

The meeting is open to the public. However, participation in NMSAC deliberations is limited to NMSAC members, Department of Homeland Security officials, and persons attending the meeting for special presentations. Please note that the meeting may close early if all business is finished. The Building is a secure facility so people attending should be ready to show a picture identification. At the Chair's discretion, members of the public may make oral presentations during the meeting. If you would like to make an oral presentation at the meeting, please notify the Executive Secretary no later than July 14, 2006. If you would like a copy of your material distributed to each member of the Committee in advance of the meeting, please submit 25 copies to the Executive Secretary no later than July 14, 2006.

Information on Services for Individuals With Disabilities

For information on facilities or services for individuals with disabilities or to request special assistance at the meeting, contact the Executive Secretary as soon as possible.

Dated: June 21, 2006.
F.J. Sturm,
Captain, U.S. Coast Guard, Chief, Office of Port and Vessel and Facility Security, Designated Federal Official, NMSAC.

[FR Doc. E6-11000 Filed 7-12-06; 8:45 am]

BILLING CODE 4910-15-P